ENVIRONMENTAL PROTECTION AGENCY

[FRL 7446-5]

EPA Science Advisory Board; Notification of Ecological Processes and Effects Committee Meeting; Request for Comments on the Consultative Panel

Purpose of this Notice—To: (1) Announce a public meeting of a Federal advisory committee, and (2) solicit public comment on the proposed consultative panel.

1. Meeting of the Ecological Processes and Effects Committee (EPEC)—February 13-14, 2003

Pursuant to the Federal Advisory Committee Act, Pub. L. 92-463, notice is hereby given that the Ecological Processes and Effects Committee (EPEC) of the U.S. EPA Science Advisory Board (SAB) will meet on Thursday and Friday, February 13-14, 2003 to conduct a consultation with the EPA Office of Water on its plans to revise the “Guidelines for Deriving Numerical National Water Quality Criteria for the Protection of Aquatic Organisms and Their Uses”; to receive Agency briefings on ecological science priorities; and to discuss potential future SAB studies. All times noted are Eastern Time. The meeting is open to the public, however, seating is limited and available on a first come basis. Important Notice: Documents that are the subject of SAB reviews or consultations are normally available from the originating EPA office and are not available from the SAB Office—information concerning availability of documents generated by the SAB and the relevant Program Office is included below.

The meeting will begin on Thursday, February 13 at 9 am and adjourn no later than 5:30 pm that day. On Friday, February 14 the meeting may begin at 8:30 am and adjourn no later than 5:30 pm. The meeting will be held in EPA Conference Room 4530 in the EPA Ariel Rios North Building, 1200 Pennsylvania Avenue, NW., Washington, DC 20004. For further information concerning the meeting, please contact the individuals listed at the end of this FR notice.

Availability of the Meeting Materials

The materials are available from the Office of Water (OW) Web site, located at: http://epa.gov/waterscience/criteria/aqlife.html. The existing guidelines subject to revision are available through the National Technology Information Service at http://www.NTIS.gov. The document number for ordering the Guidelines is: PB85227049. For questions and information concerning the materials, please contact Ms. Heidi Bell, U.S. Environmental Protection Agency, 1200 Pennsylvania Ave, NW., Washington, DC 20460; tel. (202) 566-1089, or e-mail: bell.heidi@epa.gov.

2. Solicitation of Public Comment on the Proposed Consultative Panel

A “consultation” is one of several types of formal interaction between the Agency and the Science Advisory Board. The purpose of a consultation is to conduct an early discussion between the Agency and the SAB to help articulate important issues in the development of a project. The meeting is public and consists of briefings and discussions. In some cases a partial document, or an early draft is available to serve a the basis for discussions. A charge is often used, but is less focused than that used in a formal peer review. No consensus advice is sought and no report is generated by the SAB.

To provide the Agency with meaningful input, we have determined that the following expertise is needed for the consultation: ecotoxicology, chemistry, ecological risk assessment, and uncertainty analysis. The EPA Science Advisory Board Staff Office has determined that the Ecological Processes and Effects Committee (EPEC), a standing committee of the Board, will conduct this consultation since EPEC already has the appropriate expertise without the need for additional expert consultants. Therefore, we are not soliciting additional experts for this consultation.

The SAB Staff Office will post the names and biosketches for members of the consultative Panel on the SAB Web site at: http://www.epa.gov/sab. Public comments will be accepted until February 7, 2003 on the information provided. During this comment period, the public will be requested to provide information, analysis or other documentation relevant to the membership of the panel for the Staff Office's final decision. Information, analysis or documentation must be received by the EPEC Designated Federal Officer (DFO) no later than February 7, 2003. Please see the address/contact information noted below.

For the EPA SAB, a balanced review panel (i.e., committee, subcommittee, or panel) is characterized by inclusion of candidates who possess the necessary domains of knowledge, the relevant scientific perspectives (which, among other factors, can be influenced by work history and affiliation), and the collective breadth of experience to adequately address the charge. Information provided by the public will be considered in the selection of the panel, along with information provided by candidates and information gathered by EPA SAB Staff independently on the background of each candidate (e.g., financial disclosure information and computer searches to evaluate a nominee's prior involvement with the topic under review). Specific criteria to be used in evaluating an individual subcommittee member include: (a) scientific and/or technical expertise, knowledge, and experience (primary factors); (b) availability and willingness to serve; (c) absence of financial conflicts of interest; (d) scientific credibility and impartiality; and (e) ability to work constructively and effectively in committees.

3. General Information

Providing Oral or Written Comments at SAB Meetings

It is the policy of the EPA Science Advisory Board (SAB) to accept written public comments of any length, and to accommodate oral public comments whenever possible. The EPA SAB expects that public statements presented at its meetings will not be repetitive of previously submitted oral or written statements. Oral Comments: In general, each individual or group requesting an oral presentation at a face-to-face meeting will be limited to a total time of ten minutes (unless otherwise indicated). For teleconference meetings, opportunities for oral comment will usually be limited to no more than three minutes per speaker and no more than fifteen minutes total. Interested parties should contact the DFO at least one week prior to the meeting in order to be placed on the public speaker list for the meeting. Speakers may attend the meeting and provide comment up to the meeting time. Speakers should bring at least 35 copies of their comments and presentation slides for distribution to the reviewers and public at the meeting. Written Comments: Although the SAB accepts written comments until the date of the meeting (unless otherwise stated), written comments should be received in the SAB Staff Office at least one week prior to the meeting date so that the comments may be made available to the review panel for their consideration. Comments should be supplied to the EPEC DFO at the address/contact information noted above in the following formats: one hard copy with original signature, and one electronic copy via e-mail (acceptable file format: Adobe Acrobat, WordPerfect, Word, or Rich Text files (in IBM-PC/Windows 95/98 format). Those providing written comments and who attend the meeting are also asked to bring 35 copies of their comments for public distribution. Should comment be provided at the meeting and not in advance of the meeting, they should be in-hand to the DFO up to and immediately following the meeting. The SAB allows a grace period of 48 hours after adjournment of the public meeting to provide written comments supporting any verbal comments stated at the public meeting to be made a part of the public record.

For Further Information

Any member of the public wishing further information concerning this meeting, who wish to submit brief oral comments, or have comment on the constitution or balance of EPEC membership, must contact Mr. Lawrence Martin, DFO, USEPA Science Advisory Board (1400A), Suite 6450, 1200 Pennsylvania Avenue, NW., Washington, DC 20460; telephone/voice mail at (202) 564-6497; fax at (202) 501-0582; or via e-mail at martin.lawrence@epa.gov. Requests for oral comments must be in writing (e-mail, fax or mail) and received by Mr. Martin no later than noon Eastern Time five business days prior to the meeting date (February 7, 2003).

Members of the public desiring additional information about the meeting location must contact Ms. Zisa Lubarov-Walton, EPA Science Advisory Board (1400A), Suite 6450, U.S. EPA, 1200 Pennsylvania Avenue, NW., Washington, DC 20460; telephone/voice mail at (202) 564-4537; fax at (202) 501-0582; or via e-mail at Zisa Lubarov-Walton@epa.gov.

A copy of the draft agenda for the meeting will be posted on the SAB Web site (http://www.epa.gov/sab) (under the AGENDAS subheading) approximately 10 days before the meeting.

Meeting Access

Individuals requiring special accommodation at this meeting, including wheelchair access to the conference room, should contact Ms. Lubarov-Walton at least five business days prior to the meeting so that appropriate arrangements can be made.

Dated: January 27, 2003.
Vanessa T. Vu,
Director, EPA Science Advisory Board Staff Office.

[FR Doc. 03-2334 Filed 1-29-03; 8:45 am]

BILLING CODE 6560-50-P